DEPARTMENT OF HOMELAND SECURITY

Federal Emergency Management Agency

[Docket ID FEMA-2014-0002; Internal Agency Docket No. FEMA-B-1458]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: December 11, 2014.
Roy E. Wright,
Deputy Associate Administrator for Mitigation, Department of Homeland Security, Federal Emergency Management Agency.

State and county | Location and case No. | Chief executive officer of community | Community map repository | Online location of letter of map revision | Effective date of modification | Community No.
Arkansas: Benton | City of Rogers, (14-06-1977P) | The Honorable Greg Hines, Mayor, City of Rogers, 301 West Chestnut Street, Rogers, AR 72756 | City Hall, 301 West Chestnut Street, Rogers, AR 72756 | http://www.msc.fema.gov/lomc | Feb. 20, 2015 | 050013
District of Columbia: Washington | District of Columbia, (14-03-2215P) | The Honorable Vincent C. Gray, Mayor, District of Columbia, 1350 Pennsylvania Avenue, Northwest, Suite 316, Washington, DC 20004 | Department of the Environment, 1200 1st Street, Northeast, 5th Floor, Washington, DC 20002 | http://www.msc.fema.gov/lomc | Mar. 4, 2015 | 110001
Maryland: Montgomery | Unincorporated areas of Montgomery County, (13-03-1642P) | The Honorable Isiah Leggett, Montgomery County Executive, 101 Monroe Street, 2nd Floor, Rockville, MD 20850 | Montgomery County Department of Permitting Services, 255 Rockville Pike, 2nd Floor, Rockville, MD 20850 | http://www.msc.fema.gov/lomc | Mar. 2, 2015 | 240049
Massachusetts:
Middlesex | City of Lowell, (14-01-1641P) | Mr. Kevin J. Murphy, Manager, City of Lowell, 375 Merrimack Street, 2nd Floor, Room 43, Lowell, MA 01852 | City Hall, 375 Merrimack Street, Lowell, MA 01852 | http://www.msc.fema.gov/lomc | Feb. 20, 2015 | 250201
Middlesex | Town of Chelmsford, (14-01-1641P) | The Honorable Patricia Wojtas, Chairman, Chelmsford Town Board of Selectmen, 50 Billerica Road, 2nd Floor, Chelmsford, MA 01824 | Town Hall, 50 Billerica Road, Chelmsford, MA 01824 | http://www.msc.fema.gov/lomc | Feb. 20, 2015 | 250188
New Mexico: Lincoln | Unincorporated areas of Lincoln County, (14-06-2363P) | Ms. Nita Taylor, Manager, Lincoln County, P.O. Box 711, Carrizozo, NM 88301 | Lincoln County, 115 Kansas City Road, Ruidoso, NM 88345 | http://www.msc.fema.gov/lomc | Feb. 5, 2015 | 350122
Pennsylvania:
Chester | Township of Caln, (14-03-1638P) | The Honorable John Contento, President, Caln Township Board of Commissioners, 253 Municipal Drive, Thorndale, PA 19372 | Caln Township Municipal Building, 253 Municipal Drive, Thorndale, PA 19372 | http://www.msc.fema.gov/lomc | Feb. 6, 2015 | 422247
Dauphin | Township of Derry, (14-03-0956P) | The Honorable John Foley, Chairman, Derry Township Board of Supervisors, 600 Clearwater Road, Hershey, PA 17033 | Derry Township Municipal Building, 600 Clearwater Road, Hershey, PA 17033 | http://www.msc.fema.gov/lomc | Feb. 6, 2015 | 420376
Texas:
Bexar | City of San Antonio, (13-06-2738P) | The Honorable Ivy R. Taylor, Mayor, City of San Antonio, P.O. Box 839966, San Antonio, TX 78283 | Department of Public Works, Storm Water Engineering, 1901 South Alamo Street, 2nd Floor, San Antonio, TX 78204 | http://www.msc.fema.gov/lomc | Mar. 2, 2015 | 480045
Bexar | City of San Antonio, (14-06-0171P) | The Honorable Ivy R. Taylor, Mayor, City of San Antonio, P.O. Box 839966, San Antonio, TX 78283 | Department of Public Works, Storm Water Engineering, 1901 South Alamo Street, 2nd Floor, San Antonio, TX 78204 | http://www.msc.fema.gov/lomc | Mar. 2, 2015 | 480045
Bexar | Unincorporated areas of Bexar County, (14-06-0171P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.msc.fema.gov/lomc | Mar. 2, 2015 | 480035
Bexar | Unincorporated areas of Bexar County, (14-06-3173P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.msc.fema.gov/lomc | Mar. 4, 2015 | 480035
Bowie | Unincorporated areas of Bowie County, (13-06-3716P) | The Honorable Sterling Lacy, Bowie County Judge, 710 James Bowie Drive, New Boston, TX 75570 | Bowie County Courthouse, 710 James Bowie Drive, New Boston, TX 75570 | http://www.msc.fema.gov/lomc | Jan. 27, 2015 | 481194
Collin | City of Wylie, (14-06-1119P) | The Honorable Eric Hogue, Mayor, City of Wylie, 300 Country Club Road, Building 100, Wylie, TX 75098 | 300 Country Club Road, Building 100, Wylie, TX 75098 | http://www.msc.fema.gov/lomc | Feb. 5, 2015 | 480759
Comal | City of New Braunfels, (13-06-4372P) | The Honorable Barron Casteel, Mayor, City of New Braunfels, 424 South Castell Avenue, New Braunfels, TX 78130 | Municipal Building, 424 South Castell Avenue, New Braunfels, TX 78130 | http://www.msc.fema.gov/lomc | Feb. 26, 2015 | 485493
Dallas | City of Rowlett, (14-06-2443P) | The Honorable Todd W. Gottel, Mayor, City of Rowlett, 4000 Main Street, Rowlett, TX 75088 | Development Services Building, 3901 Main Street, Rowlett, TX 75088 | http://www.msc.fema.gov/lomc | Mar. 13, 2015 | 480185
Dallas and Denton | City of Coppell, (14-06-1947P) | The Honorable Karen Hunt, Mayor, City of Coppell, P.O. Box 9478, Coppell, TX 75019 | Engineering Department, 265 Parkway Boulevard, Coppell, TX 75019 | http://www.msc.fema.gov/lomc | Feb. 9, 2015 | 480170
El Paso | Unincorporated areas of El Paso County, (13-06-3651P) | The Honorable Veronica Escobar, El Paso County Judge, 500 East San Antonio Street, Suite 301, El Paso, TX 79901 | El Paso County Public Works Department, 800 East Overland Avenue, Suite 407, El Paso, TX 79901 | http://www.msc.fema.gov/lomc | Mar. 4, 2015 | 480212
Kendall | City of Boerne, (14-06-2663P) | The Honorable Mike Schultz, Mayor, City of Boerne, 402 East Blanco Road, Boerne, TX 78006 | Department of Planning and Community Development, 402 East Blanco Road, Boerne, TX 78006 | http://www.msc.fema.gov/lomc | Feb. 9, 2015 | 480418
Kendall | Unincorporated areas of Kendall County, (14-06-1363P) | The Honorable Darrel L. Lux, Kendall County Judge, 201 East San Antonio Avenue, Suite 122, Boerne, TX 78006 | Kendall County Development and Floodplain Management Office, 201 East San Antonio Avenue, Suite 101, Boerne, TX 78006 | http://www.msc.fema.gov/lomc | Feb. 17, 2015 | 480417
Tarrant | City of Colleyville, (14-06-2163P) | The Honorable David Kelly, Mayor, City of Colleyville, 100 Main Street, Colleyville, TX 76034 | Engineering Division, 100 Main Street, 2nd Floor, Colleyville, TX 76034 | http://www.msc.fema.gov/lomc | Feb. 3, 2015 | 480590
Tarrant | City of Southlake, (14-06-2163P) | The Honorable John Terrell, Mayor, City of Southlake, 1400 Main Street, Suite 270, Southlake, TX 76092 | Public Works Administration and Engineering Division, 1400 Main Street, Suite 320, Southlake, TX 76092 | http://www.msc.fema.gov/lomc | Feb. 3, 2015 | 480612
Williamson | City of Georgetown, (13-06-1572P) | The Honorable Dale Ross, Mayor, City of Georgetown, 113 East 8th Street, Georgetown, TX 78626 | City Hall, 113 East 8th Street, Georgetown, TX 78626 | http://www.msc.fema.gov/lomc | Feb. 26, 2015 | 480668
Williamson | City of Round Rock, (14-06-2866P) | The Honorable Alan McGraw, Mayor, City of Round Rock, 221 East Main Street, Round Rock, TX 78664 | Department of Utilities and Environmental Services, 2008 Enterprise Drive, Round Rock, TX 78664 | http://www.msc.fema.gov/lomc | Mar. 13, 2015 | 481048
Virginia:
Prince William | Unincorporated areas of Prince William County, (14-03-0598P) | The Honorable Melissa S. Peacor, Prince William County Executive, 1 County Complex Court, Prince William, VA 22192 | Prince William County, James J. McCoart Administration Building, 5 County Complex Court, Suite 170, Prince William, VA 22192 | http://www.msc.fema.gov/lomc | Jan. 22, 2015 | 510119
Stafford | Unincorporated areas of Stafford County, (14-03-1089P) | The Honorable Jack Cavalier, Chairman, Stafford County Board of Supervisors, P.O. Box 339, Stafford, VA 22555 | Stafford County Administration Center, 1300 Courthouse Road, Stafford, VA 22554 | http://www.msc.fema.gov/lomc | Feb. 4, 2015 | 510154

[FR Doc. 2014-30721 Filed 12-30-14; 8:45 am]

BILLING CODE 9110-12-P